DEPARTMENT OF HEALTH AND HUMAN SERVICES

National Institutes of Health

National Institutes of Health Statement of Organization, Functions, and Delegations of Authority

Part N, National Institutes of Health (NIH), of the Statement of Organization, Functions, and Delegations of Authority for the Department of Health and Human Services (40 FR 22859, May 27, 1975, as amended most recently at 77 FR 1941, January 12, 2012, and redesignated from Part HN as Part N at 60 FR 56605, November 9, 1995), is amended as set forth below to establish the All of Us℠ Research Program Office.

Section N-A, Organization and Functions, is amended as follows: Immediately after the paragraph headed “Office of the Director”(OD), insert the following:

All Of Us Research Program Office

(HNAK) (1) Oversees the design, development, implementation, and evaluation of the All of Us Resesarch Program, creating the largest and most diverse research cohort of its kind, to foster a new era of medicine in which researchers, providers and patients work together to develop individualized care by supporting research into the complex factors promoting health and treatments to cure disease.

Delegations of Authority Statement: All delegations and redelegations of authority to officers and employees of the NIH that were in effect immediately prior to the effective date of this reorganization and are consistent with this reorganization shall continue in effect, pending further redelegation.

Dated: December 23, 2016.
Francis S. Collins,
Director, National Institutes of Health.

[FR Doc. 2016-31687 Filed 12-29-16; 8:45 am]

BILLING CODE 4140-01-P